DEPARTMENT OF DEFENSE

National Imagery and Mapping Agency

Privacy Act of 1974; System of Records

AGENCY: National Imagery and Mapping Agency, DoD.

ACTION: Notice to delete and alter a system of records.

SUMMARY: The National Imagery and Mapping Agency (NIMA) is deleting one notice and altering another system of records notice in its existing inventory of record systems subject to the Privacy Act of 1974, (5 U.S.C. 552a), as amended.

The alteration consolidates two existing NIMA systems of records into one system (B0210-07, entitled “Inspector General Investigative and Complaint Files”) and proposes to exempt B0210-07 by adding a (k)(2) and (k)(5) exemption. The exemptions will increase the value of the system of records for law enforcement purposes, and will protect the privacy of individuals identified in the system of records.

DATES: This proposed action will be effective without further notice on July 5, 2002 unless comments are received which result in a contrary determination.

ADDRESSES: Comments should be sent to the National Imagery and Mapping Agency, Office of General Counsel, 4600 Sangamore Avenue, Bethesda, MD 20816-5003.

FOR FURTHER INFORMATION CONTACT: Ms. Christine May on (301) 227-4142.

SUPPLEMENTARY INFORMATION: The National Imagery and Mapping Agency systems of records notices subject to the Privacy Act of 1974, (5 U.S.C. 552a), as amended, have been published in the Federal Register and are available from the address above.

The proposed system reports, as required by 5 U.S.C. 552a(r) of the Privacy Act of 1974, as amended, was submitted on May 23, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 29, 2002.
Patricia L. Toppings,
Alternate OSD Federal Register Liaison Officer, Department of Defense.

Deletion

B0210-06

System name:

Inspector General Investigative Files (February 22, 1993, 58 FR 10189).

Reason: These records have been consolidated into the NIMA system of records B0210-07, entitled “Inspector General Investigative and Complaint Files”.

Alteration

B0210-07

SYSTEM NAME:

Inspector General Complaint Files (February 22, 1993, 58 FR 10189).

Changes:

* * * * *

SYSTEM NAME:

Delete entry and replace with ‘Inspector General Investigative and Complaint Files’.

* * * * *

Categories of individuals covered by the system:

Delete entry and replace with ‘Any individual who has registered a complaint, allegation or query with the NIMA Inspector General (IG) or is the subject of a NIMA IG investigation.’

Categories of records in the system:

Delete entry and replace with ‘Investigative/complaint files, inquiries or investigative reports pertaining to complaints, allegations of fraud, waste, abuse, mismanagement, malfeasance, or reprisal as procedures pertaining to NIMA personnel, procedures, policies or programs. Files may contain Reports of Investigation, sworn testimony, letters, memorandums and working papers regarding developed or obtained as a result of investigation or complaint wherein someone has made allegations of violations involving fraud, waste, abuse, mismanagement, reprisal, denial of due process pertaining to NIMA personnel, programs, policies and/or procedures developed or obtained as a result of the investigation or complaint.

Letters/transcriptions of complaints, allegations and queries; letters of appointment; reports of reviews, inquiries and investigations with supporting attachments, exhibits and photographs; record of interviews; witness statements; reports of legal review of case files, congressional responses; memoranda; letters and reports of findings and actions taken; letters to complainants and subjects of investigations; letters of rebuttal from subjects of investigations; finance; personnel; administration; adverse information, and technical reports.’

Purpose(s):

Delete entry and replace with ‘To analyze and evaluate the effectiveness and efficiency of NIMA policies, programs, procedures, activities and operations; to detect and prevent fraud, waste and abuse; to resolve complaints and inquiries; to initiate proper corrective action if the allegation is proven to be true in fact; to be used as basis for corrective actions.’

* * * * *

Retrievability:

Delete entry and replace with ‘By individual’s last name and Social Security Number.’

* * * * *

Retention and disposal:

Delete entry and replace with ‘Disposition pending (until NARA has approved the retention and disposition schedule for these records, treat as permanent).’

* * * * *

Exemptions claimed for the system:

Delete entry and replace with ‘Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. NOTE: When claimed, this exemption allows limited protection of investigative reports maintained in a system of records used in personnel or administrative actions.

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 320. For additional information contact the system manager.’

* * * * *

B0210-07

System name:

Inspector General Investigative and Complaint Files.

System location:

National Imagery and Mapping Agency, Office of the Inspector General, 4600 Sangamore Road, IG (D-34), Bethesda, MD 20816-5003.

Categories of individuals covered by the system:

Any individual who has registered a complaint, allegation or query with the NIMA Inspector General (IG) or is the subject of a NIMA IG investigation.

Categories of records in the system:

Investigative/complaint files, inquiries or investigative reports pertaining to complaints, allegations of fraud, waste, abuse, mismanagement, malfeasance, or reprisal as procedures pertaining to NIMA personnel, procedures, policies or programs. Files may contain Reports of Investigation, sworn testimony, letters, memorandums and working papers regarding developed or obtained as a result of investigation or complaint wherein someone has made allegations of violations involving fraud, waste, abuse, mismanagement, reprisal, denial of due process pertaining to NIMA personnel, programs, policies and/or procedures developed or obtained as a result of the investigation or complaint.

Letters/transcriptions of complaints, allegations and queries; letters of appointment; reports of reviews, inquiries and investigations with supporting attachments, exhibits and photographs; record of interviews; witness statements; reports of legal review of case files, congressional responses; memoranda; letters and reports of findings and actions taken; letters to complainants and subjects of investigations; letters of rebuttal from subjects of investigations; finance; personnel; administration; adverse information, and technical reports.

Authority for maintenance of the system:

5 U.S.C. 301, Departmental Regulations; DoD Directive 5105.60, National Imagery and Mapping Agency; NIMA Policy Directive 7400.1R1, Oversight and Assessment; NIMA Instruction 7410.8R1, Inspector General Investigations and Complaints; and E.O. 9397 (SSN).

Purpose(s):

To analyze and evaluate the effectiveness and efficiency of NIMA policies, programs, procedures, activities and operations; to detect and prevent fraud, waste and abuse; to resolve complaints and inquiries; to initiate proper corrective action if the allegation is proven to be true in fact; to be used as basis for corrective actions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DMA's compilation of systems of records notices apply to this system.

Policies and practices for storing, retrieving, accessing, retaining, and disposing of records in the system:

Storage:

Paper records and on electronic media.

Retrievability:

By individual's last name and Social Security Number.

Safeguards:

Paper records are stored in file folders and secured in cabinets located in the Inspector General records vault. The electronic files are maintained on a secure server. Access is limited to the Inspector General and investigative staff assigned to the Inspector General's office, requiring restricted user name and password access.

Retention and disposal:

Disposition pending (until NARA has approved the retention and disposition schedule for these records, treat as permanent).

System manager(s) and address:

Assistant Inspector General, Policy, Oversight and Investigations, National Imagery and Mapping Agency, Office of Inspector General, 4600 Sangamore Road, IG (D-34), Bethesda, MD 20816-5003.

Notification procedure:

Individuals seeking to determine whether information about themselves contained in this system of records should address written inquiries to National Imagery and Mapping Agency, Office of General Counsel, 4600 Sangamore Road, Mailstop D-10, Bethesda, MD 20816-5003.

Written requests for information should contain the full name of the individual, Social Security Number, current address and home telephone number, office code (if available), and investigative case file number (if known).

Record access procedures:

Individuals seeking access to information about themselves contained in this system of records should address written inquiries to National Imagery and Mapping Agency, Office of General Counsel, 4600 Sangamore Road, Mailstop D-10, Bethesda, MD 20816-5003.

Written requests for information should contain the full name of the individual, Social Security Number, current address and home telephone number, office code (if available), and investigative case file number (if known).

Contesting record procedures:

NIMA's rules for accessing records and for contesting contents and appealing initial agency determinations are published in NIMA Instruction 5500.7R1; 32 CFR part 320; or may be obtained from the system manager.

Record source categories:

Source of Inspector General Investigation and Complaint files are letters, memorandums or documents received by NIMA Inspector General staff from military, civilian, or other sources.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 320. For additional information contact the system manager.

[FR Doc. 02-13897 Filed 6-3-02; 8:45 am]

BILLING CODE 5001-08-P